SMALL BUSINESS ADMINISTRATION

[Disaster Declaration #17561 and #17562; KENTUCKY Disaster Number KY-00095]

Presidential Declaration Amendment of a Major Disaster for Public Assistance Only for the Commonwealth of Kentucky

AGENCY: Small Business Administration.

ACTION: Amendment 1.

SUMMARY: This is an amendment of the Presidential declaration of a major disaster for Public Assistance Only for the Commonwealth of Kentucky (FEMA-4663-DR), dated 07/29/2022.

Incident: Severe Storms, Flooding, Landslides, and Mudslides.

Incident Period: 07/26/2022 and continuing.

DATES: Issued on 08/12/2022.

Physical Loan Application Deadline Date: 09/27/2022.

Economic Injury (EIDL) Loan Application Deadline Date: 05/01/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the Commonwealth of Kentucky, dated 07/29/2022, is hereby amended to include the following areas as adversely affected by the disaster.

Primary Counties: Breathitt, Cumberland, Johnson, Leslie, Letcher, Magoffin, Whitley, Wolfe.

All other information in the original declaration remains unchanged.

(Catalog of Federal Domestic Assistance Number 59008)

Rafaela Monchek,
Acting Associate Administrator for Disaster Assistance.

[FR Doc. 2022-18661 Filed 8-29-22; 8:45 am]

BILLING CODE 8026-09-P